OFFICE OF THE UNITED STATES TRADE REPRESENTATIVE

Determination Regarding Waiver of Discriminatory Purchasing Requirements With Respects to Goods and Services of North Macedonia

AGENCY: Office of the United States Trade Representative.

ACTION: Notice.

SUMMARY: Pursuant to authority delegated by the President, the U.S. Trade Representative had determined to waive U.S. discriminatory procurement laws with respect to goods and services of North Macedonia to implement U.S. obligations under the Agreement on Government Procurement (GPA).

DATES: Applicable as of October 30, 2023.

FOR FURTHER INFORMATION CONTACT: Kate Psillos, Deputy Assistant U.S. Trade Representative for WTO and Multilateral Affairs, Kathryn.W.Psillos@ustr.eop.gov, 202-395-9581; or Edward Marcus, Assistant General Counsel, Edward.D.Marcus@ustr.eop.gov, 202-395-0448.

SUPPLEMENTARY INFORMATION:

On June 7, 2023, the World Trade Organization (WTO) Committee on Government Procurement approved the accession of North Macedonia to the GPA. North Macedonia submitted its instrument of accession to the Director-General of the WTO on September 29, 2023. The GPA will enter into force for North Macedonia on October 30, 2023. The United States, which also is a party to the GPA, has agreed to waive discriminatory purchasing requirements for eligible products and suppliers of North Macedonia beginning on October 30, 2023.

In Executive Order 12260 of December 31, 1980, the President delegated authority to waive discriminatory purchasing requirements under sections 301 and 302 of the Trade Agreements Act of 1979 (Act) (19 U.S.C. 2511 and 2512) to the U.S. Trade Representative. Pursuant to this delegated authority, the U.S. Trade Representative has made the following determination in conformity with sections 301 and 302, and in order to carry out U.S. obligations under the GPA:

1. North Macedonia has become a party to the GPA and will provide appropriate reciprocal competitive government procurement opportunities to United States products and services and suppliers of such products and services. In accordance with section 301(b)(1) of the Act, North Macedonia is so designated for purposes of section 301(a) of the Act.

2. Accordingly, beginning on October 30, 2023, with respect to eligible products (namely, those goods and services covered under the GPA for procurement by the United States) of North Macedonia and suppliers of such products, the application of any law, regulation, procedure or practice regarding government procurement that would, if applied to such products and suppliers, result in treatment less favorable than that accorded to United States products and suppliers of such products, or to eligible products of another foreign country or instrumentality that is a party to the GPA and suppliers of such products, is waived. This waiver will be applied by all entities listed in United States Annexes 1 and 3 of GPA Appendix 1.

3. The U.S. Trade Representative may modify or withdraw the designation in paragraph 2.

Greta Peisch,
General Counsel, Office of the United States Trade Representative.

[FR Doc. 2023-22026 Filed 10-3-23; 8:45 am]

BILLING CODE 3290-F3-P